DEPARTMENT OF DEFENSE

Office of the Secretary

Proposed Collection; Comment Request

AGENCY: Office of the Under Secretary of Defense (Personnel and Readiness).

ACTION: Notice.

In compliance with section 350(c)(2)(A) of the Paperwork Reduction Act of 1995, the Office of the Under Secretary of Defense (Personnel and Readiness) announces the following proposed reinstatement of a public information collection and seeks public comment on the provisions thereof. Comments are invited: (a) Whether the proposed collection of information is necessary for the proper performance of the functions of the agency, including whether the information shall have practical utility; (b) the accuracy of the agency's estimate of burden of the proposed information collection; (c) ways to enhance the quality, utility, and clarity of the information to be collected; and (d) ways to minimize the burden of the information collection on respondents, including through the use of automated collection techniques or other forms of information technology.

DATES: Consideration will be given to all comments received by November 26, 2002.

ADDRESSES: Written comments and recommendations on the proposed information collection should be sent to the Office of the Under Secretary of Defense (Personnel and Readiness) (Force Management Policy/Military Personnel Policy—Armed Forces Chaplains Board,) ATTN: Chaplain (COL) Horton, 4000 Defense Pentagon, Washington, DC 20301-4000.

FOR FURTHER INFORMATION CONTACT: To request more information on this proposed information collection or to obtain a copy of the proposal and associated collection instruments, please write to the above address or call at (703) 697-9015.

Title, Associated Form, and OMB Control Number: Appointment of Chaplains for the Military Services; DD Form 2088 and DD Form 2741; OMB Control Number 0704-0190.

Needs and Uses: Per 32 CFR part 65, in conjunction with 10 U.S.C. 532 and 591, professionally qualified clergy persons shall be appointed as chaplains to provide for the free exercise of religion for all members of the military services, their dependents, and other authorized persons. Since World War I, the professional qualifications of clergy have been certified by the faith group of which these clergy are members. Religious organizations register with the Department of Defense for the purpose of endorsing clergy as fully qualified to serve as chaplains in the armed forces. No clergy person may become a chaplain without this endorsement, and the loss of this endorsement constitutes a loss of professional status. It also certifies the number of years of professional experience for each candidate.

Department of Defense Directive 1304.19, “Appointment of Chaplains for the Military Services,” requires that religious faith groups be officially registered by the Department of Defense in order to endorse chaplains to the Military Services. This information collection is needed to ensure that religious faith groups are appropriately organized and authorized by their constituencies to endorse clergy for service as chaplains in the Military Services.

The information in DD Form 2741, “Ecclesiastical Endorsing Organization Verification/Reverification,” is collected whenever a religious faith group initially seeks registration with the Department of Defense as an ecclesiastical endorsing agency; it is reverified every 3 years thereafter. The form is sent by the religious faith group to the Armed Forces Chaplains Board (AFCB). DD Form 2741, “Ecclesiastical Endorsing Organization Verification/Reverification,” has been used to verify the continued eligibility of the religious organizations identified as ecclesiastical endorsing agencies. One-third of the organizations have been verified or reverified over the past year using this form.

The DD Form 2088, “Certificate of Ecclesiastical Endorsement,” is used whenever an ecclesiastical endorsing agency submits a clergy person as a candidate to become a chaplain. The ecclesiastical endorsing agency sends it to the Military Service which the clergy person wishes to join.

The three Military Services are required by DoD Directive 1304.19, “Appointment of Chaplains for the Military Services,” to obtain a certification of the professional qualifications of clergy applying for the chaplaincy DD Form 2088, “Certificate of Ecclesiastical Endorsement,” also requests the name, address, number of years of professional experience accrued by the clergy person, and number of years of previous military experience. This information is used in computing constructive credit for determining grade, date of rank, and eligibility of promotion of appointees in the chaplaincies.

Affected Public: Not-For-Profit Institutions.

Annual Burden Hours: 616 hrs.

Number of Respondents: 797.

Responses per Respondent: 1.

Average Burden per Response: .77.

Frequency: On occasion/annually.

Summary of Information Collection

The information in DD Form 2741, “Ecclesiastical Endorsing Organization Verification/Reverification,” is collected whenever a religious faith group initially seeks registration by the Department of Defense as an ecclesiastical endorsing agency; it is reverified every 3 years thereafter. The form is sent by the religious faith group to the Armed Forces Chaplains Board (AFCB). The DD Form 2088, “Certificate of Ecclesiastical Endorsement,” is used on occasion, whenever an ecclesiastical endorsing agency submits a clergy person as a candidate to become a chaplain. The ecclesiastical endorsing agency sends it to the Military Service which the clergy person wishes to join.

The three Military Services are required by DoD Directive 1304.19, “Appointment of Chaplains for the Military Services,” to obtain a certification of the professional qualifications of clergy applying for the chaplaincy. This certification is rendered in the form of an ecclesiastical endorsement from the clergy person's religious faith group. An ecclesiastical endorsement is an essential part of the application process for clergy to become chaplains. DD Form 2088, “Certification of Ecclesiastical Endorsement,” also requests the number of years of professional experience accrued by the clergy person. This information is used in computing constructive credit for determining grade, date of rank, and eligibility of promotion of appointees in the chaplaincies. Both the military and the religious faith groups insist on ensuring that only professionally qualified clergy serve as chaplains. Without this formal process, the chaplaincy would cease to exist as a professional corps.

DD Form 2741, “Ecclesiastical Endorsing Organization Verification/Reverification,” is used by religious faith groups seeking DoD registration as ecclesiastical endorsing organizations for supplying chaplains to the Military Services. Each religious faith group is required to certify that it is authorized by its memberships to act as the sole agency for the purpose of certifying and endorsing clergy to serve as military chaplains. After initial certification, these organizations are required to reverify this information every 3 years. This information collection is used by the AFCB to determine whether a religious faith group has met the requirements to become (or remain) an ecclesiastical endorsing agency, able to endorse clergy for service as chaplains. The AFCB regularly supplies the military Chaplain Services with a list of registered ecclesiastical endorsing agencies. The list is used in the chaplain recruitment/accession process to validate that candidates for the chaplaincy are endorsed by a group registered by the Department of Defense.

DD Form 2088, “Certificate of Ecclesiastical Endorsement,” is used to certify that a member of the clergy is professionally qualified to become a chaplain. It requests information about name, address, professional experience, and previous military experience to be used in determining grade, date of rank, and eligibility for promotion for appointees to the chaplaincies of the armed forces. DD Form 2741, “Ecclesiastical Endorsing Organization Verification/Reverification,” is used to request basic demographic information about religious organizations seeking to supply clergy persons to the Military Services to serve as chaplains. It requests the name of an official authorized to represent the organization to the Military Services, and it requires the organization to certify that it is authorized by its membership to act as the sole agency for the purpose of certifying and endorsing clergy to serve as military chaplains.

The information collected from DD Form 2088, “Certificate of Ecclesiastical Endorsement,” has been used over the past several years by the three Military Services to ensure that those clergy who applied to become chaplains were professionally qualified and appropriately endorsed by their respective religious faith groups. DD Form 2741, “Ecclesiastical Endorsing Organization Vertification/Reverification,” has been used to verify the continued eligibility of the religious organizations identified as ecclesiastical endorsing agencies.

Dated: September 23, 2002.
Patricia L. Toppings,
Alternate OSD Federal Register Liaison Officer, Department of Defense.

[FR Doc. 02-24543 Filed 9-26-02; 8:45 am]

BILLING CODE 5001-08-M